SURFACE TRANSPORTATION BOARD

[STB Docket No. EP 670 (Sub-No. 1)]

Notice of Rail Energy Transportation Advisory Committee Meeting

AGENCY: Surface Transportation Board.

ACTION: Notice of Rail Energy Transportation Advisory Committee meeting.

SUMMARY: Notice is hereby given of a meeting of the Rail Energy Transportation Advisory Committee (RETAC), pursuant to the Federal Advisory Committee Act (FACA), 5 U.S.C. app. 2 10(a)(2).

DATES: The meeting will be held on Friday, April 15, 2016, at 9:00 a.m. C.D.T.

ADDRESSES: The meeting will be held at the BNSF Railway Corporate Headquarters at 2650 Lou Menk Drive, Fort Worth, Texas 76131-2830. Members of the public who wish to attend are encouraged to contact Katherine Bourdon (see contact information below) in advance to avoid delays in security processing on the day of the meeting.

FOR FURTHER INFORMATION CONTACT: Katherine Bourdon (202) 245-0285; Katherine.Bourdon@stb.dot.gov. [Assistance for the hearing impaired is available through the Federal Information Relay Service (FIRS) at: (800) 877-8339.]

SUPPLEMENTARY INFORMATION: RETAC was formed in 2007 to provide advice and guidance to the Board, and to serve as a forum for discussion of emerging issues related to the transportation of energy resources by rail, including coal, ethanol, and other biofuels, Establishment of a Rail Energy Transportation Advisory Committee, Docket No. EP 670. The purpose of this meeting is to continue discussions regarding issues such as rail performance, capacity constraints, infrastructure planning and development, and effective coordination among suppliers, carriers, and users of energy resources. Potential agenda items for this meeting include a performance measures review, industry segment updates by RETAC members, and a roundtable discussion.

The meeting, which is open to the public, will be conducted in accordance with the Federal Advisory Committee Act, 5 U.S.C. app. 2; Federal Advisory Committee Management regulations, 41 CFR pt. 102-3; RETAC's charter; and Board procedures. Further communications about this meeting may be announced through the Board's Web site at WWW.STB.DOT.GOV.

Written Comments: Members of the public may submit written comments to RETAC at any time. Comments should be addressed to RETAC, c/o Katherine Bourdon, Surface Transportation Board, 395 E Street SW., Washington, DC 20423-0001 or Katherine.Bourdon@stb.dot.gov.

Authority: 49 U.S.C. 1321, 49 U.S.C. 11101; 49 U.S.C. 11121.

Decided: March 24, 2016.
By the Board, Joseph H. Dettmar, Acting Director, Office of Proceedings.
Brendetta S. Jones,
Clearance Clerk.

[FR Doc. 2016-07122 Filed 3-29-16; 8:45 am]

BILLING CODE 4915-01-P